DEPARTMENT OF HOMELAND SECURITY

Federal Emergency Management Agency

44 CFR Part 65

[Docket ID FEMA-2008-0020]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Arizona:
Maricopa (FEMA Docket No: B-1011) | Town of Cave Creek (08-09-0722P) | September 17, 2008, September 24, 2008, Sonoran News | The Honorable Vincent Francia, Mayor, Town of Cave Creek, 5140 East New River Road, Cave Creek, AZ 85331 | January 22, 2009 | 040129
Maricopa (FEMA Docket No: B-1005) | City of Glendale (08-09-1010P) | August 7, 2008, August 14, 2008, The Glendale Star | The Honorable Elaine M. Scruggs, Mayor, City of Glendale, 5850 West Glendale Avenue, Glendale, AZ 85301 | December 12, 2008 | 040045
Yavapai (FEMA Docket No: B-1005) | City of Prescott (08-09-0020P) | August 21, 2008, August 28, 2008, Prescott Daily Courier | The Honorable Jack Wilson, Mayor, City of Prescott, 201 South Cortez Street, Prescott, AZ 86303 | December 26, 2008 | 040098
California:
Sacramento (FEMA Docket No: B-1015) | City of Folsom (07-09-1657P) | September 17, 2008, September 24, 2008, The Folsom Telegraph | The Honorable Eric King, Mayor, City of Folsom, 50 Natoma Street, Folsom, CA 95630 | January 15, 2009 | 060263
San Diego (FEMA Docket No: B-1005) | Unincorporated areas of San Diego County (08-09-0332P) | August 18, 2008, August 25, 2008, San Diego Daily Transcript | Mr. Ron Roberts, San Diego County Board of Supervisors, 1600 Pacific Highway, Room 335, San Diego, CA 92101 | December 23, 2008 | 060284
San Luis Obispo (FEMA Docket No: B-1019) | City of Atascadero (08-09-0724P) | October 22, 2008, October 29, 2008, Atascadero News | The Honorable Tom O'Malley, Mayor, City of Atascadero, 6907 El Camino Real, Atascadero, CA 93422 | October 6, 2008 | 060700
Colorado:
Boulder (FEMA Docket No: B-1023) | City of Boulder (08-08-0701P) | October 24, 2008, October 31, 2008, The Daily Camera | The Honorable Shaun McGrath, Mayor, City of Boulder, P.O. Box 791, Boulder, CO 80306 | October 10, 2008 | 080024
Boulder (FEMA Docket No: B-1023) | Unincorporated areas of Boulder County (08-08-0701P) | October 24, 2008, October 31, 2008, The Daily Camera | The Honorable Ben Pearlman, Chairman, Boulder County Board of Commissioners, P.O. Box 471, Boulder, CO 80306 | October 10, 2008 | 080023
Douglas (FEMA Docket No: B-1027) | Unincorporated areas of Douglas County (07-08-0862P) | February 14, 2008, February 21, 2008, Douglas County News Press | The Honorable Steven A. Boand, Chairman, Douglas County Board of Commissioners, 100 Third Street, Castle Rock, CO 80104 | May 22, 2008 | 080049
Douglas (FEMA Docket No: B-1019) | Unincorporated areas of Douglas County (08-08-0553P) | October 2, 2008, October 9, 2008, Douglas County News-Press | The Honorable Melanie A. Worley, Chairman, Douglas County Board of Commissioners, 100 Third Street, Castle Rock, CO 80104 | February 6, 2009 | 080049
Douglas (FEMA Docket No: B-1019) | Town of Parker (08-08-0553P) | October 2, 2008, October 9, 2008, Douglas County News-Press | The Honorable David Casiano, Mayor, Town of Parker, 20120 East Main Street, Parker, CO 80138-7334 | February 6, 2009 | 080310
El Paso (FEMA Docket No: B-1019) | Unincorporated areas of El Paso County (08-08-0630P) | October 8, 2008, October 15, 2008, El Paso County Advertiser | The Honorable Dennis Hisey, Chairman, El Paso County Board of Commissioners, 27 East Vermijo Avenue, Colorado Springs, CO 80903-2208 | September 24, 2008 | 080059
Delaware:
Kent (FEMA Docket No: B-7788) | Unincorporated areas of Kent County (08-03-0601P) | May 21, 2008, May 28, 2008, Dover Post | The Honorable P. Brooks Banta, President, Kent County, 555 Bay Road, Dover, DE 19901 | September 18, 2008 | 100001
Florida:
Collier (FEMA Docket No: B-1005) | City of Marco Island (08-04-4259P) | August 14, 2008, August 21, 2008, Naples Daily News | The Honorable William D. Trotter, Chairman, City Council, City of Marco Island, 50 Bald Eagle Drive, Marco Island, FL 34145 | July 31, 2008 | 120426
Collier (FEMA Docket No: B-1023) | City of Naples (08-04-4493P) | October 22, 2008, October 29, 2008, Naples Daily News | The Honorable Bill Barnett, Mayor, City of Naples, 35 Eighth Street South, Naples, FL 34102 | October 15, 2008 | 125130
Lee (FEMA Docket No: B-1005) | Unincorporated areas of Lee County (08-04-2060P) | August 13, 2008, August 20, 2008, Fort Meyer News Press | The Honorable Ray Judah, Chairman, Lee County Board of Commissioners, P.O. Box 398, Fort Myers, FL 33902 | August 29, 2008 | 125124
Miami-Dade (FEMA Docket No: B-1005) | City of Miami (08-04-2590P) | August 15, 2008, August 22, 2008, Miami Herald | The Honorable Manuel A. Diaz, Mayor, City of Miami, 3500 Pan American Drive, Miami, FL 33133 | July 31, 2008 | 120650
Sarasota (FEMA Docket No: B-1011) | Unincorporated areas of Sarasota County (08-04-1962P) | September 12, 2008, September 19, 2008, Sarasota Herald-Tribune | The Honorable Shannon Staub, Chair, Sarasota County Commission, 1660 Ringling Boulevard, Sarasota, FL 34236 | January 20, 2009 | 125144
Georgia:
Barrow (FEMA Docket No: B-1005) | Unincorporated areas of Barrow County (08-04-3647P) | August 6, 2008, August 13, 2008, The Barrow County News | The Honorable Douglas H. Garrison, Chairman, Barrow County, Board of Commissioners, 233 East Broad Street, Winder, GA 30680 | December 11, 2008 | 130497
Gwinnett (FEMA Docket No: B-1005) | City of Duluth (08-04-3497P) | August 14, 2008, August 21, 2008, Gwinnett Daily Post | The Honorable Nancy Harris, Mayor, City of Duluth, 3167 Main Street, Duluth, GA 30096 | August 12, 2008 | 130098
Muscogee County Consolidated Government (FEMA Docket No: B-1005) | City of Columbus (08-04-4426P) | May 22, 2008, May 29, 2008, Columbus Ledger-Enquirer | The Honorable Jim Wetherington, Mayor, City of Columbus—Muscogee County, Consolidated Government, P.O. Box 1340, Columbus, GA 31902 | August 27, 2008 | 135158
Illinois:
Cook (FEMA Docket No: B-1019) | Unincorporated areas of Cook County (08-05-2074P) | October 14, 2008, October 21, 2008, Southtown Star | The Honorable Todd H. Stroger, President, Cook County Board of Commissioners, 118 North Clark Street, Room 537, Chicago, IL 60602 | November 7, 2008 | 170054
Cook (FEMA Docket No: B-1019) | Village of Ford Heights (08-05-2074P) | October 14, 2008, October 21, 2008, Southtown Star | The Honorable Saul L. Beck, Mayor, Village of Ford Heights, 1343 Ellis Avenue, Ford Heights, IL 60411 | November 7, 2008 | 170084
Cook (FEMA Docket No: B-1019) | Village of Sauk Village (08-05-2074P) | October 14, 2008, October 21, 2008, Southtown Star | The Honorable Roger G. Peckham, Mayor, Village of Sauk Village, 21701 Torrence Avenue, Sauk Village, IL 60411 | November 7, 2008 | 170157
Dupage (FEMA Docket No: B-1019) | Village of Bensenville (08-05-0178P) | October 15, 2008, October 22, 2008, Daily Herald | The Honorable John C. Geils, President, Village of Bensenville, 12 South Center Street, Bensenville, IL 60106 | September 29, 2008 | 170200
Dupage (FEMA Docket No: B-1019) | Village of Elk Grove (08-05-0178P) | October 15, 2008, October 22, 2008, Daily Herald | The Honorable Craig B. Johnson, Mayor, Village of Elk Grove, 901 Wellington Avenue, Elk Grove Village, IL 60007 | September 29, 2008 | 170088
DuPage (FEMA Docket No: B-1011) | Village of Lisle (08-05-3888P) | September 16, 2008, September 23, 2008, Daily Herald | The Honorable Joseph Broda, Mayor, Village of Lisle, 925 Burlington Avenue, Lisle, IL 60532 | January 21, 2009 | 170211
Lake (FEMA Docket No: B-1015) | City of Park City (08-05-3860P) | September 26, 2008, October 2, 2008, Lake County News-Sun | The Honorable Steve Pannell, Mayor, City of Park City, 3420 Kehm Boulevard, Park City, IL 60085 | February 2, 2009 | 170386
Massachusetts:
Essex (FEMA Docket No: B-1005) | City of Beverly (08-01-0002P) | August 13, 2008, August 20, 2008, The Salem News | The Honorable William Scanlon, Jr., Mayor, City of Beverly, 191 Cabot Street, Beverly, MA 01915 | August 1, 2008 | 250077
Suffolk (FEMA Docket No: B-1001) | City of Boston (08-01-1020P) | July 24, 2008, July 31, 2008, Boston Herald | The Honorable Thomas Menino, Mayor, City of Boston, One City Hall Square, Boston, MA 02201 | December 5, 2008 | 250286
Montana:
Flathead (FEMA Docket No: B-1005) | Unincorporated areas of Flathead County (08-08-0149P) | August 15, 2008, August 22, 2008, Daily Inter Lake | The Honorable Gary D. Hall, Chairman, Flathead County, Board of Commissioners, 800 South Main Street, Kalispell, MT 59901 | July 31, 2008 | 300023
Nevada:
Clark (FEMA Docket No: B-1019) | Unincorporated areas of Clark County (08-09-0253P) | October 10, 2008, October 17, 2008, Las Vegas Review Journal | The Honorable Rory Reid, Chair, Clark County Board of Commissioners, 500 South Grand Central Parkway, Las Vegas, NV 89106 | September 26, 2008 | 320003
Clark (FEMA Docket No: B-1019) | Unincorporated areas of Clark County (08-09-0919P) | October 10, 2008, October 17, 2008, Las Vegas Review Journal | The Honorable Rory Reid, Chair, Clark County Board of Commissioners, 500 South Grand Central Parkway, Las Vegas, NV 89106 | September 30, 2008 | 320003
Oregon:
Multnomah, Clackamas, and Washington (FEMA Docket No: B-1011) | City of Portland (08-10-0276P) | September 16, 2008, September 23, 2008, Daily Journal of Commerce | The Honorable Tom Potter, Mayor, City of Portland, 1221 Southwest Fourth Avenue, Suite 340, Portland, OR 97204 | January 21, 2009 | 410183
Pennsylvania:
York (FEMA Docket No: B-1019) | Township of Dover (08-03-1498P) | October 10, 2008, October 17, 2008, York Daily Record | The Honorable Shane Patterson, Chairman, Board of Supervisors Dover Township, 2480 West Canal Road, Dover, PA 17315 | September 30, 2008 | 420920
South Carolina:
Richland (FEMA Docket No: B-1005) | City of Columbia (08-04-0847P) | August 15, 2008, August 22, 2008, The Columbia Star | The Honorable Robert D. Coble, Mayor, City of Columbia, P.O. Box 147, Columbia, SC 29217 | August 30, 2008 | 450172
Richland (FEMA Docket No: B-1005) | City of Forest Acres (08-04-0847P) | August 15, 2008, August 22, 2008, The Columbia Star | The Honorable Frank Brunson, Mayor, City of Forest Acres, 5205 North Trenholm Road, Forest Acres, SC 29206 | August 30, 2008 | 450174
Richland (FEMA Docket No: B-1005) | Unincorporated areas of Richland County (08-04-2062P) | August 22, 2008, August 29, 2008, The Columbia Star | The Honorable Joseph McEachern, Chairman, Richland County Council, Richland County Administrative Building, 2020 Hampton Street, Second Floor, Columbia, SC 29202 | July 31, 2008 | 450170
Tennessee:
Williamson (FEMA Docket No: B-1027) | City of Spring Hill (07-04-6295P) | September 2, 2008, September 9, 2008, The Daily Herald | The Honorable Danny M. Laverette, Mayor, City of Spring Hill, 199 Town Center Parkway, Spring Hill, TN 37174 | August 22, 2008 | 470278
Texas:
Bexar (FEMA Docket No: B-1005) | Unincorporated areas of Bexar County (08-06-0467P) | August 1, 2008, August 8, 2008, Daily Commercial Recorder | The Honorable Nelson W. Wolff, Bexar County Judge, 100 Dolorosa Street, Suite 1.20, San Antonio, TX 78205 | December 8, 2008 | 480035
Bexar (FEMA Docket No: B-1005) | City of San Antonio (08-06-0206P) | July 31, 2008, August 7, 2008, San Antonio Express News | The Honorable Phil Hardberger, Mayor, City of San Antonio, P.O. Box 839966, San Antonio, TX 78283 | December 5, 2008 | 480045
Bexar (FEMA Docket No: B-1019) | City of San Antonio (08-06-1356P) | October 9, 2008, October 16, 2008, San Antonio Express News | The Honorable Phil Hardberger, Mayor, City of San Antonio, P.O. Box 839966, San Antonio, TX 78283 | September 24, 2008 | 480045
Denton (FEMA Docket No: B-1005) | City of Denton (08-06-1636P) | August 13, 2008, August 20, 2008, Denton Record-Chronicle | The Honorable Mark Burroughs, Mayor, City of Denton, 215 East Mckinney Street, Denton, TX 76201 | December 18, 2008 | 480194
Denton (FEMA Docket No: B-1005) | Unincorporated areas of Denton County (08-06-1636P) | August 13, 2008, August 20, 2008, Denton Record-Chronicle | The Honorable Mary Horn, Denton County Judge, 110 West Hickory Street, 2nd Floor, Denton, TX 76201 | December 18, 2008 | 480774
Harris (FEMA Docket No: B-1005) | Unincorporated areas of Harris County (08-06-0268P) | August 18, 2008, August 25, 2008, Houston Chronicle | The Honorable Ed Emmett, Harris County Judge, 1001 Preston Street, Suite 911, Houston, TX 77002 | December 23, 2008 | 480287
Kendall (FEMA Docket No: B-1023) | City of Boerne (08-06-1974P) | October 14, 2008, October 21, 2008, The Boerne Star | The Honorable Dan Heckler, Mayor, City of Boerne, P.O. Box 1677, Boerne, TX 78006 | September 24, 2008 | 480418
Montgomery (FEMA Docket No: B-1015) | Unincorporated areas of Montgomery County (07-06-0641P) | September 23, 2008, September 30, 2008, Conroe Courier | The Honorable Alan B. Sadler, Montgomery County Judge, 301 North Thompson Street, Suite 210, Conroe, TX 77301 | January 28, 2009 | 480483
Montgomery (FEMA Docket No: B-1015) | City of Panorama Village (07-06-0641P) | September 23, 2008, September 30, 2008, Conroe Courier | The Honorable Howard Kravetz, Mayor, City of Panorama Village, 98 Hiwon Drive, Panorama Village, TX 77304 | January 28, 2009 | 481263
Tarrant (FEMA Docket No: B-1027) | City of Fort Worth (08-06-0062P) | August 21, 2008, August 28, 2008, Fort Worth Star Telegram | The Honorable Mike J. Moncrief, Mayor, City of Fort Worth, 1000 Throckmorton Street, Fort Worth, TX 76102 | December 26, 2008 | 480596
Tarrant (FEMA Docket No: B-1027) | City of Fort Worth (07-06-1996P) (08-06-2520P) | August 21, 2008, August 28, 2008, Fort Worth Star Telegram | The Honorable Mike J. Moncrief, Mayor, City of Fort Worth, 1000 Throckmorton Street, Fort Worth, TX 76102 | December 26, 2008 | 480596
Travis (FEMA Docket No: B-1011) | City of Austin (08-06-1041P) | September 16, 2008, September 23, 2008, Austin American-Statesman | The Honorable Will Wynn, Mayor, City of Austin, P.O. Box 1088, Austin, TX 78767 | January 21, 2009 | 480624
Utah:
Davis (FEMA Docket No: B-1005) | City of Kaysville (08-08-0369P) | August 21, 2008, August 28, 2008, Standard Examiner | The Honorable Neka Roundy, Mayor, City of Kaysville, 23 East Center Street, Kaysville, UT 84037 | December 26, 2008 | 490046

(Catalog of Federal Domestic Assistance No. 97.022, “Flood Insurance.”)

Dated: March 2, 2009.
Michael K. Buckley,
Acting Assistant Administrator, Mitigation Directorate, Department of Homeland Security, Federal Emergency Management Agency.

[FR Doc. E9-6584 Filed 3-24-09; 8:45 am]

BILLING CODE 9110-12-P